DEPARTMENT OF EDUCATION

Office of the Deputy Secretary; Opportunity To Participate in a National Math Panel Forum To Help Improve the Teaching and Learning of Mathematics Based on the Findings and Recommendations of the National Mathematics Advisory Panel's Final Report

AGENCY: Department of Education.

ACTION: National Math Panel Forum participation.

SUMMARY: For students to compete in the 21st-century global economy, knowledge of and proficiency in mathematics are critical. Today's high school graduates need to have solid mathematics skills—whether they are headed to college or to the workforce. To help ensure our nation's future competitiveness and economic viability, President George W. Bush created the National Mathematics Advisory Panel (National Math Panel) in April 2006. The Panel was charged with reviewing the best available scientific evidence and making recommendations on improving mathematics education with a focus on readiness for and success in algebra and mathematics education in grades K-8.

The National Math Panel's final report, Foundations for Success: Report of the National Mathematics Advisory Panel, was issued on March 13, 2008. The report contains 45 findings and recommendations on numerous topics, including curricular content, learning processes, instructional practices and materials, teachers, assessments, and future research priorities.

In response to a National Math Panel recommendation, the U.S. Department of Education, in partnership with the Conference Board of Mathematical Sciences, is hosting a National Math Panel Forum (Forum) to bring together various organizations and other interested parties to discuss ways to engage their members or constituents in discussions about the National Math Panel's findings and recommendations and how the organizations and parties can collaborate and coordinate efforts to use the findings to improve mathematics education in the United States.

DATES: Registration to participate in and attend the Forum will open on July 16, 2008 and close on Friday, August 8, 2008.

Forum Dates:

Monday, October 6, 2008—Evening Reception—(Times to be determined).

Tuesday, October 7, 2008—Forum—(Times to be determined).

Location: Washington, DC area. (The National Math Panel Web site, http://www.ed.gov/MathPanel, will be updated when the exact location and times have been set for the Forum. Those who expressed interest in participating will be notified of the update).

Registration Process: Interested organizations and parties should complete an online registration form. The registration form is located at: http://www.ed.gov/MathPanel and will be available at the start of registration on July 16, 2008. Correspondence should be sent via e-mail or fax to: National Math Panel Forum, c/o Ida Eblinger Kelley, Office of Communications and Outreach, U.S. Department of Education, e-mail: NationalMathPanel@ed.gov, FAX: 202-205-9133; or c/o William McCallum, Chair, Conference Board of Mathematics Sciences, e-mail: wmc@math.arizona.edu.

SUPPLEMENTARY INFORMATION:

Background

On March 13, 2008, the National Math Panel presented its final report to the President and the Secretary of Education. During the course of two years, expert panelists, including a number of leading mathematicians, cognitive psychologists, and educators, reviewed more than 16,000 research publications and policy reports and received public testimony from 110 individuals. In addition, the Panel reviewed commentary from 160 organizations and individuals, and analyzed survey results from 743 active teachers of algebra before preparing the final report with policy advice on how to improve mathematics achievement for all students in the United States.

The National Math Panel's final report calls on the nation to improve the “delivery system in mathematics education—the system that translates mathematical knowledge into value and ability for the next generation.” Furthermore, the report states:

“Positive results can be achieved in a reasonable time at accessible cost, but a consistent, wise, community-wide effort will be required. Education in the United States has many participants in many locales—teachers, students, and parents; state school officers, school board members, superintendents, and principals; curriculum developers, textbook writers, and textbook editors; those who develop assessment tools; those who prepare teachers and help them to continue their development; those who carry out relevant research; association leaders and government officials at the federal, state, and local levels. All carry responsibilities. All can be important to success.

“The network of these many participants is linked through interacting national associations. A coordinated national approach toward improved mathematics education will require an annual forum of their leaders for at least a decade. The Panel recommends that the U.S. Secretary of Education take the lead in convening the forum initially, charge it to organize in a way that will sustain an effective effort, and request a brief annual report on the mutual agenda adopted for the year ahead.”

To read the National Math Panel's final report and Reports of the Task Groups and Subcommittees please visit: http://www.ed.gov/MathPanel.

Goals of the Forum

To answer the National Math Panel's call to build a sustained effort to improve mathematics education, the U.S. Department of Education and the Conference Board of Mathematical Sciences are requesting educational, scholarly, business, and community organizations and other interested parties to participate in a Forum with the goal of creating a network or networks committed to taking steps for the years to come to improve mathematics education, using the findings and recommendations of the National Mathematics Advisory Panel as a platform for action.

The long-term goal of this effort is to improve the teaching and learning of mathematics in order to prepare our students to succeed in algebra and higher-level mathematics by addressing the National Math Panel's evidence-based findings and recommendations. The ultimate goal is to ensure that U.S. children have the skills to pursue careers in mathematics and sciences, as well as to compete in this increasingly competitive global economy as informed citizens.

Forum Focus

The Forum in October will be the first in a series of forums. Understanding that the panel's findings are extensive and cover many areas, this initial Forum will focus on four of the seven National Math Panel recommendation topics. These topics include the following:

—Teachers and Teacher Education

—Learning Processes

—Instructional Materials

—Research Policies and Mechanisms

Other topics, including Curricular Content, Instructional Practices, and Assessment, may also be discussed during the Forum and will be addressed in future forums.

Individuals who will need accommodations for a disability in order to attend the forum (e.g., interpreting services, assistance listening devices, or materials in alternative format) should notify Ida Kelley at (202) 401-6143 or Ida.Kelley@ed.gov no later than Friday, September 12, 2008. We will attempt to meet requests for accommodations after this date but cannot guarantee their availability. The forum site is accessible to individuals with disabilities.

Participation

All interested organizations and parties committed to improving the teaching and learning of mathematics in this country are encouraged to participate in the Forum. Participants will be asked to complete online registration materials that address the following:

—A description of the specific steps or actions the organization or party is planning, or will plan, to take, building on the platform of the National Math Panel's findings and recommendations related to the four topics listed above;

—A brief statement of why the organization or party is interested in participating, along with a description of the organization's or party's resources to carry out the plan, including existing programs or efforts that could support the goals of the Forum; and

—A commitment to send a team of 2-4 individuals to the Forum. Organizations that seek to participate in the Forum should submit their registration by August 8, 2008, at http://www.ed.gov/MathPanel.

FOR FURTHER INFORMATION CONTACT: National Math Panel Forum, c/o Ida Eblinger Kelley, Office of Communications and Outreach, U.S. Department of Education, E-mail: NationalMathPanel@ed.gov, Phone: 202-401-6143, FAX: 202-205-9133, or c/o William McCallum, Conference Board of Mathematical Sciences, e-mail: wmc@math.arizona.edu.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Raymond Simon,
Deputy Secretary, U.S. Department of Education.

[FR Doc. E8-16423 Filed 7-17-08; 8:45 am]

BILLING CODE 4000-01-P